DEPARTMENT OF COMMERCE

International Trade Administration

Max Planck Florida Institute, et al.; Notice of Consolidated Decision on Applications for Duty-Free Entry of Electron Microscope

This is a decision consolidated pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Avenue NW., Washington, DC

Docket Number: 13-031. Applicant: Max Planck Florida Institute, Jupiter, FL 33458. Instrument: Field Emission Gun-Scanning Electron Microscope. Manufacturer: Carl Zeiss Microscopy, Germany. Intended Use: See notice at 79 FR 3178, January 17, 2014.

Docket Number: 13-042. Applicant: University of Washington Medical Center, Seattle, WA 98195-6100. Instrument: Transmission Electron Microscope-system type: Tecnai G2 Spirit BioTWIN. Manufacturer: FEI Company, Czech Republic. Intended Use: See notice at 79 FR 3178, January 17, 2014.

Docket Number: 13-044. Applicant: University of Minnesota-Twin Cities, Minneapolis, MN 55455. Instrument: Ultrafast Transmission Electron Microscope. Manufacturer: FEI Company, the Netherlands. Intended Use: See notice at 79 FR 3178-79, January 17, 2014.

Docket Number: 13-045. Applicant: Embry-Riddle Aeronautical University, Daytona Beach, FL 32114. Instrument: Scanning Electron Microscope Quanta 50 with Energy-Dispersive X-Ray Spectroscopy. Manufacturer: FEI Company, Czech Republic. Intended Use: See notice at 79 FR 3178-79, January 17, 2014.

Docket Number: 13-046. Applicant: UT-Battelle, LLC for the Department of Energy, Oak Ridge, TN 37831-6138. Instrument: JEM-2100F Field Emission Transmission Electron Microscope. Manufacturer: JEOL Ltd., Japan. Intended Use: See notice at 79 FR 3178-79, January 17, 2014.

Docket Number: 13-047. Applicant: The Scripps Research Institute, La Jolla, CA 92037. Instrument: Transmission Electron Microscope-Talos. Manufacturer: FEI Company, the Netherlands. Intended Use: See notice at 79 FR 3178-79, January 17, 2014.

Docket Number: 13-049. Applicant: The Regents of the University of Michigan, Ann Arbor, MI 48109. Instrument: Titan Krios Transmission Electron Microscope. Manufacturer: FEI Company, the Netherlands. Intended Use: See notice at 79 FR 3178-79, January 17, 2014.

Comments: None received. Decision: Approved. No instrument of equivalent scientific value to the foreign instrument, for such purposes as this instrument is intended to be used, is being manufactured in the United States at the time the instrument was ordered. Reasons: Each foreign instrument is an electron microscope and is intended for research or scientific educational uses requiring an electron microscope. We know of no electron microscope, or any other instrument suited to these purposes, which was being manufactured in the United States at the time of order of each instrument.

Dated: April 21, 2014.
Gregory W. Campbell,
Director, Subsidies Enforcement Office, Enforcement and Compliance.

[FR Doc. 2014-09606 Filed 4-25-14; 8:45 am]

BILLING CODE 3510-DS-P